FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—09/12/2005
20051463 | Castle Harlan Partners IV, L.P | Donald N. Smith | The Restaurant Holding Corporation.
20051504 | Grupo Ferrovial, S.A | SWT Lux S.A | SWT Lux S.A
20051514 | Polar North America Income Fund | Code, Hennessy & Simmons IV, L.P | WNA Holding Company.
20051516 | SCP Pool Corporation | David E. and Linda L. Lange | Automatic Rain Company.
20051520 | Li & Fung Limited | Bradley D. Egna | Briefly Stated Holdings, Inc.
20051526 | WESCO International, Inc | CGW Southeast Partners IV, L.P | Carlton-Bates Company.
20051527 | Health Care Service Corporation | Group Health Service of Oklahoma, Inc. | GHS Holding Company, Inc., Group Health Service of Oklahoma, Inc.
20051535 | Popular, Inc | E-LOAN, Inc | E-LOAN, Inc.
20051537 | Vector Capital III, L.P | Register.com, Inc | Register.com, Inc.
20051539 | BEA Systems, Inc | Plumtree Software, Inc | Plumtree Software, Inc.
20051543 | LIN TV Corp | Jeffrey H. Smulyan | Emmis Communications Corporation, Emmis Indiana Broadcasting, L.P., Emmis Television Broadcasting, L.P., Emmis Television License, LLC.
20051545 | Journal Communications, Inc | Jeffrey H. Smulyan | Emmis Television Broadcasting, L.P., Emmis Television License, LLC.
20051547 | Gray Television, Inc | Jeffrey H. Smulyan | Emmis Television Broadcasting, L.P., Emmis Television License, LLC.
20051558 | Macquire Bank Limited | Gregory L. Craig | Cook Inlet Energy Supply LLC.
TRANSACTIONS GRANTED EARLY TERMINATION—09/14/2005
20051461 | Warburg Pincus Private Equity VIII, L.P | Dynegy Inc | Dynegy Midstream Services, Limited Partnership.
20051529 | Eastern Insurance Holdings, Inc | Eastern Holding Company, Ltd | Eastern Holding Company, Ltd.
TRANSACTIONS GRANTED EARLY TERMINATION—09/15/2005
20051500 | Rexam PLC | Stonebridge Partners Equity Fund III, L.P | Delta Plastics Holdings, Inc.
20051533 | Ashtead Group plc | Howard and Sue Groff | Northride Equipment Company.
20051552 | Alliance Data Systems Corp | Bigfoot Interactive, Inc | Bigfoot Interactive, Inc.
20051559 | OSI Pharmaceuticals, Inc | Eyetech Pharmaceuticals, Inc | Eyetech Pharmaceuticals, Inc.
TRANSACTIONS GRANTED EARLY TERMINATION—09/16/2005
20051464 | Southern Minnesota Beet Sugar Cooperative | Imperial Sugar Company | Holly Sugar Company.
20051493 | Sonic Healthcare Limited | Clinical Pathology Laboratories, Inc | Clinical Pathology Laboratories, Inc
20051566 | Sprint Nextel Corporation | EATELCORP, Inc | Gulf Coast Wireless Limited Partnership.
20051567 | Aleris International, Inc | Sun Capital Partners II, LP | ALSCO Holdings, Inc.
20051584 | Green Equity Investors IV, L.P | Craig Nickoloff | Claim Jumper Restaurants, LLC.
TRANSACTIONS GRANTED EARLY TERMINATION—09/19/2005
20051546 | TCV V, L.P | INFONXX, Inc | INFONXX, Inc.
TRANSACTIONS GRANTED EARLY TERMINATION—09/20/2005
20051503 | Welsh, Carson, Anderson & Stowe X, L.P | Almedica International Inc | Almedical International Inc.
20051523 | Dover Corporation | Doughty Hanson & Limited | Knowles Electronics Holdings, Inc.
20051586 | Sprint Nextel Corporation | IWO Holdings, Inc | IWO Holdings, Inc.
TRANSACTIONS GRANTED EARLY TERMINATION—09/21/2005
20051544 | Vallourec SA | Virginia L. Shaw | ShawCor Inc.
TRANSACTIONS GRANTED EARLY TERMINATION—09/22/2005
20051563 | Hiroshi Mikitani | LinkShare Corporation | LinkShare Corporation.
20051582 | Colam Entreprendre S.A | Stuart C. Irby Company | Stuart C. Irby Company.
TRANSACTIONS GRANTED EARLY TERMINATION—09/23/2005
20051496 | Welsh Carson, Anderson & Stowe VII, L.P | William A. Fickling, Jr | Beech Street Corporation.
20051506 | Credit Suisse Group | Dexia S.A | SPS Holding Corp.
20051551 | Warburg Pincus Private Equity IX, L.P | KRG Capital Fund II, L.P | Chronic Care Solutions, Inc.
20051553 | Warburg Pincus Private Equity IX, L.P | Charterhouse Equity Partners III, L.P | MPTC Holdings, Inc.
20051576 | Willis Stein & Partners III, L.P | Lincolnshire Equity Fund II, L.P | Nexcycle SMI Holding Corp.
20051585 | Hiland Partners, L.P | Hiland Partners, LLC | Hiland Partners, LLC.
20051591 | Cleveland Brothers Equipment Co., Inc | James C. Beckwith III | Beckwith Machinery Company.
20051596 | Cleveland Brothers Equipment Co., Inc | G. Nicholas Beckwith III | Beckwith Machinery Company.
20051598 | News Corporation | IGN Entertainment, Inc | IGN Entertainment, Inc.
20051604 | Warburg Pincus Private Equity IX, L.P | Secure Computing Corporation | Secure Computing Corporation.
20051607 | Siemens Aktiengesellschaft | First Reservice Fund IX, L.P | Wheelabrator Air Pollution Control, Inc.
20051609 | Nautic Partners V, L.P | Carter D. Pope | Imaging Technologies Services, Inc.
20051620 | EXCO Holdings II, Inc | EXCO Acquisition, LLC | EXCO Holdings Inc.
20051624 | Warburg Pincus Private Equity IX, L.P | Warburg Pincus Private Equity VIII, L.P | Topco Associates Inc.
TRANSACTIONS GRANTED EARLY TERMINATION—09/26/2005
20051532 | LifePoint Hospitals, Inc | HCA Inc | Charleston Hospital, Inc., Clinch Valley Endocrinology, LLC, Clinch Valley Valley Pulmonology, LLC, Clinch Valley Urology, LLC, Columbia-S.J. Ventures Properties, Limited Partnership, Columbia-St. Joseph's Healthcare System, Limited Partnership, CVMC Property, LLC, Galen-Med, Inc., Orthopedics of Southwest Virginia, LLC, Raleigh General Hospital, Teays Valley Health Services, Inc., West Virginia Management Services Organization, Inc.
20051540 | Layne Christensen Company | Reynolds, Inc | Reynolds, Inc.
20051593 | Sun Capital Partners IV, L.P | Sterling Group Partners I, L.P | Exopack Holding Corp.
20051611 | Argos Acquisition Pte. Ltd | Agilent Technologies, Inc | Agilent Technologies, Inc.
20051619 | Cendant Corporation | Wind Hotels Holdings Inc | GH-Galveston, Inc., Grand Bay Management Company, Performance Hospitality Management Company, WHC Franchise Corporation, W. Isla, LLC, Wyndham 58th Street, L.L.C., Wyndham (Bermuda) Management Company, Ltd., Wyndham Hotels & Resorts (Aruba) N.V., Wyndham International Inc., Wyndham International Operating Partnership, L.P., Wyndham IP Corporation, Wyndham Management Corporation.
20051629 | Omnicom Group Inc | Ford Motor Company | The Beanstalk Group, LLC.
TRANSACTIONS GRANTED EARLY TERMINATION—09/27/2005
20051557 | Triad Hospitals, Inc | Baptist Health System, Inc | Baptist Montclair Medical Center.
20051571 | Illinois Tool Works Inc | Kirtland Capital Partners III L.P | Instron Corporation.
20051572 | American Electric Power Company, Inc | Reliant Energy, Inc | Twelvepole Creek, LLC.
20051573 | J. Kent McNew | BP p.l.c | BP Products North American Inc.
20051590 | Financiere F.L | UNOVA, Inc | UNOVA, Inc.
20051594 | Superior Plus Income Fund | Wellspring Capital Partners III, L.P | JW Aluminum Company.
20051599 | Manulife Financial Corporation | President and Fellows of Harvard College | Cathlamet Timber Company, LLC, CNI Timber Hold Co., ETT Company, LLC, ETT, L.P., Rainier Mineral Company, LLC, Rainier Timber Company, LLC, Walden Forest Investments, L.P.
TRANSACTIONS GRANTED EARLY TERMINATION—09/28/2005
20051568 | Per-Se Technologies, Inc | NDCHealth Corporation | NDCHealth Corporation.
20051575 | Wolters Kluwer nv | NDCHealth Corporation | NDC Health Information Service (Arizona) Inc.
20051616 | ACCESS Co., Ltd | PalmSource, Inc | PalmSource, Inc.
TRANSACTIONS GRANTED EARLY TERMINATION—09/29/2005
20050639 | The Proctor & Gamble Company | The Gillette Company | The Gillette Company.
20051524 | The Pepsi Bottling Group, Inc | The Henry B. Fowler Trust | Pepsi-Cola Bottling Company of Charlotte, Inc.
20051531 | Symantec Corporation | Sygate Technologies, Inc | Sygate Technologies, Inc.
20051608 | O'Neal Steel, Inc | Superior Group, Inc | TW Metals, Inc.
20051612 | AMETEK, Inc | HCC Industries Inc | HCC Industries Inc.
20051615 | Carlyle Partners IV, L.P | AxleTech International Holdings, Inc | AxleTech International Holdings, Inc.
20051617 | Building Material Holding Corporation | Robert R. Thomas, Trustee o/t R.R. Thomas Trust dated 4/4/99 | HnR Framing Systems, Inc., Home Building Components, Inc.
20051618 | Harris Corporation | Leitech Technology Corporation | Leitech Technology Corporation.
20051622 | Almatis Investments 2 Limited | Rhone Offshore Partners II, L.P | Almatis Investment Holding S.a.r.l.
TRANSACTIONS GRANTED EARLY TERMINATION—09/30/2005
20051623 | OCE N.V | Imagistics International Inc | Imagistics International Inc.
20051631 | American Electric Power Company, Inc | Allegheny Energy, Inc | Monogahela Power Company.
20051638 | Temasek Holdings (Private) Limited | iDirect, Inc | iDirect, Inc.
20051642 | ALLTEL Corporation | Telephone and Data Systems, Inc. Voting Trust | USCC Newco, LLC.
20051645 | Charterhouse Equity Partners IV, L.P | Towne Holdings, Inc | Towne Holdings, Inc.
20051654 | Sun Capital Partners IV, LP | Honewell International, Inc | Indalex Inc., Indalex Limited.

For Further Information Contact: Sandra M. Peay, Contact Representative; or,

Renee Hallman, Contact Representative; Federal Trade Commission, Premerger Notification Office, Bureau of Competition, Room H-303, Washington, DC 20580, (202) 326-3100.

By Direction of the Commission.
Donald S. Clark,
Secretary.

[FR Doc. 05-23048 Filed 11-21-05; 8:45 am]

BILLING CODE 6750-01-M